ENVIRONMENTAL PROTECTION AGENCY

[EPA-HQ-OPP-2007-0237; FRL-8142-3]

Will J. Backe, Rebbeca L. Maciewski, Melissa Dybvig and Megyn K. Mereness; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Will J. Backe, Rebbeca L. Maciewski, Melissa Dybvig and Megyn K. Mereness in accordance with 40 CFR 2.307(h)(3) and 2.308(i)(2). Will J. Backe, Rebbeca L. Maciewski, Melissa Dybvig and Megyn K. Mereness have been awarded a contract to perform work for OPP, and access to this information will enable Will J. Backe, Rebbeca L. Maciewski, Melissa Dybvig and Megyn K. Mereness to fulfill their obligations of the contract.

DATES: Will J. Backe, Rebbeca L. Maciewski, Melissa Dybvig and Megyn K. Mereness will be given access to this information on or before August 13, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2007-0038 Publicly available docket materials are available either in the electronic docket at http://www.regulations.gov, or, if only available in hard copy, at the Office of Pesticide Programs (OPP) Regulatory Public Docket in Rm. S-4400, One Potomac Yard (South Bldg.,) 2777 S. Crystal Dr., Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Contractor Requirements

Under Contract Numbers EP06D000508 Will James Backe, EP06D000478 Rebbeca L. Maciewski, WP07D000479 Melissa Dybvig and EP07D000483 Megyn K. Mereness will perform data entry which will assist in building a database through systematic entry of relevant experimental data and chemical structure information. In addition, the student may be asked to assist in laboratory experiments to measure chemical metabolism in aquatic organism.

In accordance with the requirements of 40 CFR 2.307(h)(2), the contract with Will J. Backe, Rebbeca L. Maciewski, Melissa Dybvig and Megyn K. Mereness, prohibits use of the information for any purpose not specified in the contract; prohibits disclosure of the information to a third party without prior written approval from the Agency; and requires that each official and employee of the contractor sign an agreement to protect the information from unauthorized release and to handle it in accordance with the FIFRA Information Security Manual. In addition, Will J. Backe, Rebbeca L. Maciewski, Melissa Dybvig and Megyn K. Mereness are required to submit for EPA approval a security plan under which any CBI will be secured and protected against unauthorized release or compromise. No information will be provided to Will J. Backe, Rebbeca L. Maciewski, Melissa Dybvig and Megyn K. Mereness, until the requirements in this document have been fully satisfied. Records of information provided to Will J. Backe, Rebbeca L. Maciewski, Melissa Dybvig and Megyn K. Mereness, will be maintained by EPA Project Officers for this contract. All information supplied toWill J. Backe, Rebbeca L. Maciewski, Melissa Dybvig and Megyn K. Mereness, by EPA for use in connection with this contract will be returned to EPA when Will J. Backe, Rebbeca L. Maciewski, Melissa Dybvig and Megyn K. Mereness, have completed their work.

List of Subjects

Environmental protection, Business and industry, Government contracts, Government property, Security measures.

Dated: July 25, 2007.
Oscar Morales,
Acting Director, Office of Pesticide Programs.

[FR Doc. E7-15052 Filed 8-7-07; 8:45 am]

BILLING CODE 6560-50-S